DEPARTMENT OF THE INTERIOR

Bureau of Reclamation

[RR83550000, 167R5065C6, RX.59389832.1009676]

Quarterly Status Report of Water Service, Repayment, and Other Water-Related Contract Actions

AGENCY: Bureau of Reclamation, Interior.

ACTION: Notice.

SUMMARY: Notice is hereby given of contractual actions that have been proposed to the Bureau of Reclamation (Reclamation) and are new, discontinued, or completed since the last publication of this notice. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section.

FOR FURTHER INFORMATION CONTACT: Michelle Kelly, Reclamation Law Administration Division, Bureau of Reclamation, P.O. Box 25007, Denver, Colorado 80225-0007; telephone 303-445-2888.

SUPPLEMENTARY INFORMATION: Consistent with section 9(f) of the Reclamation Project Act of 1939, and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his or her designated public contact as they become available for review and comment.

7. In the event modifications are made in the form of a proposed contract, the appropriate regional director shall determine whether republication of the notice and/or extension of the comment period is necessary.

Factors considered in making such a determination shall include, but are not limited to, (i) the significance of the modification, and (ii) the degree of public interest which has been expressed over the course of the negotiations. At a minimum, the regional director will furnish revised contracts to all parties who requested the contract in response to the initial public notice.

Definitions of Abbreviations Used in the Reports

ARRA American Recovery and Reinvestment Act of 2009

BCP Boulder Canyon Project

Reclamation Bureau of Reclamation

CAP Central Arizona Project

CUP Central Utah Project

CVP Central Valley Project

CRSP Colorado River Storage Project

FR Federal Register

IDD Irrigation and Drainage District

ID Irrigation District

M&I Municipal and industrial

NMISC New Mexico Interstate Stream Commission

O&M Operation and maintenance

OM&R Operation, maintenance, and replacement

P-SMBP Pick-Sloan Missouri Basin Program

PPR Present Perfected Right

RRA Reclamation Reform Act of 1982

SOD Safety of Dams

SRPA Small Reclamation Projects Act of 1956

USACE U.S. Army Corps of Engineers

WD Water District

Pacific Northwest Region: Bureau of Reclamation, 1150 North Curtis Road, Suite 100, Boise, Idaho 83706-1234, telephone 208-378-5344.

New contract action:

19. Yakama Nation and Cascade ID, Yakima Project, Washington: Long-term contract for an exchange of water and to authorize the use of capacity in Yakima Project facilities to convey up to 10 cubic feet per second of non-project water during the non-irrigation season for fish hatchery purposes.

Mid-Pacific Region: Bureau of Reclamation, 2800 Cottage Way, Sacramento, California 95825-1898, telephone 916-978-5250.

New contract action:

50. State of Nevada, Newlands Project, Nevada: Title transfer of lands and features of the Carson Lake and Pasture.

Modified contract action:

16. Pershing County Water Conservation District, Pershing County, and Lander County; Humboldt Project; Nevada: Title transfer of lands and features of the Humboldt Project.

Completed contract actions:

7. El Dorado ID, CVP, California: Long-term Warren Act contract for conveyance of nonproject water in the amount of up to 17,000 acre-feet annually. The contract will allow CVP facilities to be used to deliver nonproject water to the District for M&I use within its service area. Contract executed August 2, 2016.

16. Pershing County Water Conservation District, Pershing County, Lander County, and the State of Nevada; Humboldt Project; Nevada: Title transfer of lands and features of the Humboldt Project. Quitclaim deed executed on August 19, 2015 for the Battle Mountain Title Transfer situated in the County of Lander, State of Nevada.

Lower Colorado Region: Bureau of Reclamation, P.O. Box 61470 (Nevada Highway and Park Street), Boulder City, Nevada 89006-1470, telephone 702-293-8192.

New contract actions:

26. San Carlos Apache Tribe and the Pascua Yaqui Tribe, CAP, Arizona: Execute a CAP water lease in order for the San Carlos Apache Tribe to lease 2,230 acre-feet of its CAP water to the Pascua Yaqui Tribe during calendar year 2017.

27. City of Yuma, BCP, Arizona: Long-term consolidated contract with the City for delivery of its Colorado River water entitlement.

28. Imperial Irrigation District, BCP, California: Approve an assignment of 155 cubic feet per second of capacity in the All-American Canal and all obligations associated therewith to the District from the City of San Diego.

Completed contract action:

7. City of Yuma, BCP, Arizona: Amend the City's contract to extend the term (which expired October 2012) for 5 years during which time a consolidated contract will be developed. Contract executed August 16, 2016.

Upper Colorado Region: Bureau of Reclamation, 125 South State Street, Room 8100, Salt Lake City, Utah 84138-1102, telephone 801-524-3864.

New contract actions:

38. Albuquerque Bernalillo County Water Utility Authority, Middle Rio Grande Project, New Mexico: Contract to satisfy the requirements of Reclamation's Agreed Order obligation contained in the October 5, 2000, “Supplement to Agreed Order Resolving Plaintiffs' Motion for Preliminary Injunction.” The contract will comply with the provisions and requirements of the Agreed Order by replacement/pay back of 14,129 acre-feet of water in which Reclamation will pay $100 per acre-foot for 9,129 acre-feet for a total payment of $912,900 as well as transfer to the Authority 5,000 acre-feet of water acquired by Reclamation. The contract will terminate upon full satisfaction of the agreements contained within to include final payment of replacement water via wet water replacement and the monetary payments described therein.

39. Utah Ute Indian Tribe, CUP, Utah: The Utah Ute Indian Tribe has requested the use of excess capacity in the Strawberry Aqueduct and Collection System, as authorized in the Central Utah Project Completion Act legislation.

40. Utah Ute Indian Tribe; Flaming Gorge Unit, CRSP; Utah: As part of discussions on settlement of a potential compact, the Utah Ute Indian Tribe has indicated interest in storage of its potential water right in Flaming Gorge Reservoir.

41. State of Utah; Flaming Gorge Unit, CRSP; Utah: The State of Utah has indicated an interest in obtaining a contract (likely an exchange contract) that would allow the full development and use of the Central Utah Project Ultimate Phase water right which was previously assigned to the State of Utah. The water right involves 158,000 acre-feet of depletion, of which 86,000 acre-feet is for the State of Utah's proposed Lake Powell Pipeline Project.

42. Weber Basin Water Conservancy District, Weber Basin Project, Utah: The District has requested permission to install a low-flow hydro-electric generation plant at Causey Reservoir to take advantage of winter releases. This will likely be accomplished through a supplemental O&M contract.

43. Central Utah Water Conservancy District; Bonneville Unit, CUP; Utah: The District has received a request to convert 300 acre-feet of irrigation water in Wasatch County to M&I purposes. This will require an amended block notice.

44. Provo River Restoration Project, Utah: The Utah Reclamation Mitigation and Conservation Commission is amending Agreement No. 9-LM-40-01410 to include additional acreage in the boundaries of the Provo River Restoration Project.

45. East Wanship Irrigation Company, Weber Basin Project, Utah: The Company has requested a supplementary O&M agreement to modify the Federal facilities below Wanship Dam to install a pipe from its current point of delivery to the end of the Primary Jurisdiction Zone.

Completed contract actions:

38. Albuquerque Bernalillo County Water Utility Authority, Middle Rio Grande Project, New Mexico: Contract to satisfy the requirements of Reclamation's Agreed Order obligation contained in the October 5, 2000, “Supplement to Agreed Order Resolving Plaintiffs' Motion for Preliminary Injunction.” The contract will comply with the provisions and requirements of the Agreed Order by replacement/pay back of 14,129 acre-feet of water in which Reclamation will pay $100 per acre-foot for 9,129 acre-feet for a total payment of $912,900 as well as transfer to the Authority 5,000 acre-feet of water acquired by Reclamation. The contract will terminate upon full satisfaction of the agreements contained within to include final payment of replacement water via wet water replacement and the monetary payments described therein. Contract executed August 22, 2016.

Great Plains Region: Bureau of Reclamation, P.O. Box 36900, Federal Building, 2021 4th Avenue North, Billings, Montana 59101, telephone 406-247-7752.

New contract action:

43. Dennis Williams and Daniel Davis; Canyon Ferry Unit, P-SMBP; Montana: Proposal to negotiate, execute, and administer a long-term water service contract to irrigate up to 15,000 acres of land with water from Canyon Ferry.

44. Oxbow Ranch; Canyon Ferry Unit, P-SMBP; Montana: Proposal to negotiate, execute, and administer a long-term water service contract for multiple purposes with water from Canyon Ferry.

45. Hickory Swings Golf Course; Canyon Ferry Unit, P-SMBP; Montana: Consideration to amend Contract No. 159E670039 to increase the water supply from 20 to 50 acre-feet.

Discontinued contract actions:

17. State of Colorado; Armel Unit, P-SMBP; Colorado: Consideration of a contract action to address future OM&R costs.

34. Power—Teton County Water and Sewer District; Canyon Ferry Unit, P-SMBP; Montana: Consideration of a long-term contract for up to 40 acre-feet of M&I water from Canyon Ferry Reservoir.

40. Nathan D. and Kindra Young; Canyon Ferry Unit, P-SMBP; Montana: Consideration to renew short-term M&I water service contract No. 129E670093.

Completed contract actions:

19. Harlan County Dam and Reservoir; Bostwick Division, P-SMBP; Nebraska and Kansas: Consideration of a contract with Bostwick ID in Nebraska and Kansas-Bostwick ID No. 2 for repayment of extraordinary O&M at Harlan County Dam and Reservoir. Contract executed June 22, 2016.

27. East Larimer County Water District, Fort Collins-Loveland Water District, North Weld County Water District, and Northern Colorado Water Conservancy District, Colorado-Big Thompson Project, Colorado: Consideration of long-term excess capacity contracts. Contracts executed August 26, 2016.

38. City of Chinook, Milk River Project, Montana: Consideration to renew long-term M&I water service Contract No. 14-06-600-2034A. Contract executed August 16, 2016.

Dated: September 27, 2016.
Roseann Gonzales,
Director, Policy and Administration.

[FR Doc. 2016-28342 Filed 11-23-16; 8:45 am]

BILLING CODE 4332-90-P